DEPARTMENT OF VETERANS AFFAIRS

Commission on Care; Notice of Meeting

In accordance with the Federal Advisory Committee Act, 5 U.S.C., App. 2, the Commission on Care gives notice that it will meet on Tuesday, October 6, 2015 at the Capital Hilton, 1001 16th Street NW., Washington, DC 20036. The meeting will convene at 8:30 a.m. and end at 5:30 p.m. The meeting is open to the public.

The purpose of the Commission, as described in section 202 of the Veterans Access, Choice, and Accountability Act of 2014 (VACAA), is to examine the access of Veterans to health care from the Department of Veterans Affairs (VA) and strategically examine how best to organize the Veterans Health Administration (VHA), locate health care resources, and deliver health care to Veterans during the next 20 years. In undertaking this assessment, the Commission will evaluate and assess the results of the Independent Assessment conducted by CMS Alliance to Modernize Healthcare (CAMH) in accordance with section 201 of VACAA.

On October 6, the Commission will hear from VHA and other Department officials as well as other experts on the feasibility, advisability, and cost implications of recommendations in the CAMH Independent Assessment.

No time will be allocated at this meeting for receiving oral presentations from the public. However, the public may submit written statements for the Commission's review to Sharon Gilles, Designated Federal Officer, Commission on Care, 1575 I (Eye) Street NW., Suite 240, Washington, DC 20005, or email at sharon.gilles@va.gov. Any member of the public wanting to attend may contact Ms. Gilles.

Dated: September 16, 2015.
Sharon Gilles,
Designated Federal Officer, Commission on Care.

[FR Doc. 2015-23576 Filed 9-18-15; 8:45 am]

BILLING CODE 8320-01-P